DEPARTMENT OF DEFENSE

Department of the Army, Corps of Engineers

Withdrawal of Notice of Intent (NOI) To Prepare a Draft Environmental Impact Statement for the Amite River and Tributaries-East of the Mississippi River, Louisiana, Flood Risk Management Feasibility Study

AGENCY: Corps of Engineers, Department of the Army, Department of Defense.

ACTION: Notice of intent; withdrawal.

SUMMARY: The U.S. Army Corps of Engineers (USACE) is issuing this notice to advise Federal, State, and local governmental agencies and the public that USACE is withdrawing the notice of intent for the preparation of the Draft Environmental Impact Statement (DEIS) for the Amite River and Tributaries-East of the Mississippi River, Louisiana, Flood Risk Management Feasibility Study, which was published in the Federal Register on April 2, 2019. Since publication of the NOI, the USACE released a Draft Integrated Feasibility Report and Environmental Impact Statement (DIFR/EIS) associated with this study on November 26, 2019 for concurrent public, technical, legal, and policy review. The USACE, after further evaluation of potential impacts, determined the revised (and current) TSP is not likely to result in significant impacts requiring the preparation of an EIS. The USACE therefore prepared the Supplemental Second Draft Integrated Feasibility Report with Environmental Assessment #600 (SSDIFR/EA) that was made available for a 45-day public review starting on December 15, 2023.

DATES: The notice of intent to prepare an EIS published in the Federal Register on April 4, 2019 (84 FR 12602), is withdrawn as of August 8, 2024.

ADDRESSES: Department of the Army, U.S. Army Corps of Engineers, New Orleans District, 7400 Leake Avenue New Orleans, LA 70118-3651.

FOR FURTHER INFORMATION CONTACT: Questions about the withdrawal of the Notice of Intent can be directed to Jordan Logarbo, at (504) 862-1158 or Jordan.r.logarbo@usace.army.mil.

SUPPLEMENTARY INFORMATION: The study's purpose is to investigate flood risk reduction alternatives to reduce flood damages from rainfall in the Amite River Basin (ARB). The study is authorized by the Resolution of the Committee on Public Works of the United States Senate, adopted on April 14, 1967. The report is funded through Public Law 115-123 (the Bipartisan Budget Act of 2018).

A DIFR/EIS for this study was released on November 26, 2019, for concurrent public, technical, legal, and policy review. It evaluated four alternatives as a part of its final array, which included two dams, and a nonstructural plan in its final array. The TSP of the 2019 DIFR/EIS was an estimated $2.3 billion-dollar new large-scale dry dam with a nonstructural component to address residual risk over a 2200 mi² study area. During review, the TSP was identified to have extensive technical and policy concerns, which found the dam was constrained by site conditions that made it in-feasible as designed and potentially increased life safety risk.

Due to these concerns the USACE re-evaluated critical tasks to inform the decision on the revised tentatively selected plan, a nonstructural-only plan for voluntary elevation of eligible residential structures and floodproofing of eligible nonresidential structures. The USACE does not anticipate that this revised TSP would have impacts requiring the preparation of an EIS. This was documented in the SSDIFR/EA. The SSDIFR/EA was made available on the Amite River and Tributaries Feasibility Study website (https://www.mvn.usace.army.mil/Amite-River-and-Tributaries/) for a 45-day public review and comment period beginning on December 15, 2023 and ending on January 29, 2024.

James A. Bodron,
Programs Director, Mississippi Valley Division.

[FR Doc. 2024-17632 Filed 8-7-24; 8:45 am]

BILLING CODE 3720-58-P